DEPARTMENT OF TRANSPORTATION

Federal Railroad Administration

Draft Tier II Environmental Impact Statement: Southeast High Speed Rail Corridor-Richmond, VA (Main Street Station) to Raleigh, NC (Boylan Wye)

AGENCY: Federal Railroad Administration (FRA), U.S. Department of Transportation (DOT).

ACTION: Notice of Availability of the Tier II Draft Environmental Impact Statement and public hearings for the Southeast High Speed Rail, Richmond, VA to Raleigh, NC Project (Project).

SUMMARY: The Federal Railroad Administration announces the availability of the Southeast High Speed Rail, Richmond, VA to Raleigh, NC Project Draft Tier II Environmental Impact Statement (DEIS) for public review and comment. The DEIS was prepared pursuant to the National Environmental Policy Act of 1969 (NEPA), as amended, 42 U.S.C. 4321 et seq., the Council on Environmental Quality NEPA implementing regulations, 40 CFR parts 1500-1508, and the FRA NEPA guidance, 64 FR 28545 (May 26, 1999). FRA is the lead Federal agency; the Federal Highway Administration, United States Coast Guard, United States Army Corps of Engineers, United States Environmental Protection Agency, and the United States Fish and Wildlife Service are cooperating Federal agencies. The North Carolina Department of Transportation Rail Division (NCDOT) and the Virginia Department of Rail and Public Transportation (DRPT) are co-lead State agencies. The Environmental Protection Agency included the DEIS in the Notice of Availability published on June 4, 2010.

DATES: FRA invites interested Members of Congress, state and local governments, other Federal agencies, Native American tribal governments, organizations, and members of the public to provide comments on the DEIS. The public comment period opened on May 28, 2010, and will continue until August 30, 2010. Written and oral comments will be given equal weight, and FRA will consider all comments received or postmarked by that date in the preparing the Final EIS. Comments received or postmarked after that date will be considered to the extent practicable. Dates and locations for the public hearings are listed below. “Open House” information sessions will be held from 5-7 p.m. followed by public hearings at 7 p.m. Eastern Standard Time:

1. Norlina, NC: July 13, 2010, Northside Elementary School, 164 Elementary Avenue, Norlina, NC 27563.

2. Alberta, VA: July 15, 2010, Southside Virginia Community College, Christanna Campus, 109 Campus Drive, Alberta, VA 23821.

3. Richmond, VA: July 20, 2010, Virginia Department of Motor Vehicles Cafeteria, 2300 West Broad Street, 1st floor, Richmond, VA 23269.

4. Petersburg, VA: July 21, 2010, Union Station, 103 River Street, Petersburg, VA 23804.

5. McKenney, VA: July 22, 2010, Sunnyside Elementary School, 10203 Sunnyside Road, McKenney, VA 23872.

6. Raleigh, NC: July 26, 2010, Raleigh Convention Center, 500 South Salisbury Street, Raleigh, NC 27601.

7. Henderson, NC: July 27, 2010, Aycock Elementary School, 305 Carey Chapel Road, Franklin County, NC 27537.

8. Franklinton, NC: July 29, 2010, Franklinton High School Gym, 6948 N. Cheatham Street, Franklinton, NC 27525.

ADDRESSES: Comments may be submitted at the public hearings both verbally and in writing. Written comments may be submitted electronically via the project Web site at http://www.sehsr.org or mailed to SEHSR Comments, NCDOT Rail Division, 1553 Mail Service Center, Raleigh, NC 27699-1553, or SEHSR Comments, Virginia Department of Rail and Public Transportation, 600 East Main Street, Suite 2102, Richmond, VA 23219.

FOR FURTHER INFORMATION CONTACT: For further information regarding the environmental review, please contact one of the following three individuals: Mr. Patrick Simmons, NCDOT Rail Division, 1553 Mail Service Center, Raleigh, NC 27699-1553 (telephone 919-733-7245), or by e-mail at pbsimmons@ncdot.gov, with “SEHSR Richmond to Raleigh,” in the subject heading; or Ms. Christine Fix, Virginia Department of Rail & Public Transportation, 600 East Main Street, Suite 2102, Richmond, VA 23219 (telephone 804-786-1052) or by e-mail at christine.fix@drpt.virginia.gov, with “SEHSR Richmond to Raleigh” in the subject heading; or Mr. John Winkle, Transportation Industry Analyst, Office of Passenger Programs, Federal Railroad Administration, 1200 New Jersey Ave., SE., Room W38-311, Washington, DC 20590 (telephone 202 493-6067), or by e-mail at John.Winkle@DOT.Gov with “SEHSR Richmond to Raleigh” in the subject heading.

SUPPLEMENTARY INFORMATION: The Tier II DEIS evaluates alternatives and the environmental impacts for proposed high speed passenger rail service with a maximum authorized speed of 110 miles per hour within the preferred corridor described in the Tier I Record of Decision for the SEHSR Corridor from Washington, DC to Charlotte, NC. This Tier II DEIS is focused on the approximately 162 mile portion of the corridor between Main Street Station in Richmond, VA and the Boylan Wye in Raleigh, NC. The project corridor generally follows the CSX S-line from Main Street Station, Richmond, VA, to Centralia, VA, then the CSX A-line to Collier Yard, Petersburg, VA. South of Collier Yard the corridor follows the Burgess Connector rail line to Burgess, VA, and the former Seaboard Air Line (S-line) to Norlina, NC, where the S-line returns to an active freight railroad. In Raleigh, NC, the study corridor includes two alternatives: the western branch follows the existing Norfolk Southern (NS) NS-line; the eastern branch continues to follow the CSX S-line. The two branches rejoin before the terminus of the project at the Boylan Wye. Included in the project are nearly 100 new bridges/overpasses that, when combined with existing bridges/overpasses, will create a fully grade-separated system to ensure the safety of both passengers and the surrounding community.

For engineering purposes and discussions of impacts, the project corridor is divided into 26 sections. There are three alternatives in each section, and each rail alternative includes an associated set of highway improvements. In many areas, the alternatives are concurrent. The endpoints of each of the 26 sections are in locations where the alternative alignments are in a common location. The alternatives are evaluated section by section, allowing a “best-fit” preferred alternative to be developed for the entire study corridor. The Tier I EIS established the purpose and need for the project; and evaluated nine build alternatives, as well as a No-Build Alternative; therefore, a no-build alternative was not evaluated in this Tier II document. Potential environmental impacts of the alternatives include increased noise and vibration, local traffic impacts associated with consolidation of existing at-grade crossings to new or existing bridges and underpasses, impacts on historic properties and archeological sites, impacts on parks and recreation resources, impacts on sensitive biological resources and wetlands, and use of energy. Potential mitigation strategies are described to avoid or minimize potential impacts. Such strategies would be further refined when the preferred alternative is selected, and discussed in the Final Environmental Impact Statement.

Availability of the DEIS

Copies of the Draft EIS and appendices are available for review at the following locations:

• Richmond Main Public Library, 101 East Franklin Street, Richmond, VA.

• Richmond Regional Planning District Commission, 9211 Forest Hill Avenue, Suite 200, Richmond, VA.

• Chesterfield County Central Public Library, 9501 Lori Road, Chester, VA.

• Colonial Heights Public Library, 1000 Yacht Basin Drive, Colonial Heights, VA.

• Petersburg Central Public Library, 137 S. Sycamore Street, Petersburg, VA.

• Crater District Planning Commission, 1964 Wakefield Street, Petersburg, VA.

• Dinwiddie County Planning Department, 14016 Boydton Plank Road, Dinwiddie, VA.

• Southside Virginia Community College Library, Christiana Campus, 109 Campus Drive, Alberta, VA.

• Southside Planning District Commission, 200 S. Mecklenburg Avenue, South Hill, VA.

• Norlina Town Hall, 101 Main Street, Norlina, NC.

• NCDOT District 3 Office, 321 Gillburg Road, Henderson, NC.

• Franklinton Branch Public Library, 9 West Mason Street, Franklinton, NC.

• NCDOT District 1 Office, 4009 District Drive, Raleigh, NC.

The project Web site http://www.sehsr.org includes a complete list of locations and addresses. The document is also available at the Virginia Department of Rail and Public Transportation Office at 600 East Main Street, Suite 2102, Richmond, VA; and the North Carolina Department of Transportation Rail Division at 1 South Wilmington Street, Raleigh, NC. In addition, electronic versions of the Draft Tier II EIS and appendices are available through FRA's Web site at www.fra.dot.gov, on the DRPT Web site at http://www.drpt.virginia.gov and on the project Web site at www.sehsr.org.

Issued in Washington, DC, on June 2, 2010.
Mark E. Yachmetz,
Associate Administrator for Policy and Development.

[FR Doc. 2010-13587 Filed 6-4-10; 8:45 am]

BILLING CODE 4910-06-P